DEPARTMENT OF JUSTICE

Notice of Lodging of Consent Decree Under the Comprehensive Environmental Response, Compensation and Liability Act (CERCLA)

Pursuant to section 122(d)(2) of CERCLA, 42 U.S.C. 9622(d)(2), notice is hereby given that on July 29, 2005, a proposed Consent Decree in United States v. U.S. Sugar, et al., 05-61271-CV-Huck/Simonton (S.D. Fl.) was lodged with the United States District Court for the Southern District of Florida.

In this action the United States sought to require the Defendants to conduct remedial design and remedial action to address releases and threatened releases of hazardous substances at the Florida Petroleum Reprocessors Superfund Site (“Site”) in the town of Davie in Broward County, Florida. The United States also sought to recover certain past and future costs incurred and to be incurred by the Environmental Protection Agency (EPA) during the performance of response actions at the Site.

Under the Decree, a group of 52 parties who sent waste oil to the Site will perform the remedial design and remedial action at the Site, pursuant to the March 1, 2001 Record of Decision (ROD). These parties will also pay $96,892.11 to the Hazardous Substances Superfund in reimbursement of EPA's previously unreimbursed response costs at or in connection with the Site. In addition, they will pay EPA's future costs associated with overseeing the remedial design and remedial action and implementing the Consent Decree.

A group of federal agencies who sent waste oil to the Site will pay $1,289,064 to the Hazardous Substances Superfund in reimbursement of EPA's previously unreimbursed response costs at or in connection with the Site.

A former owner and operator of the Site, Barry Paul, and a current owner of the Site, the Florida Department of Transportation, will pay $700,000 and $500,000 respectively to the Hazardous Substances Superfund in reimbursement of EPA's previously unreimbursed response costs at or in connection with the Site.

The Department of Justice will receive for a period of thirty (30) days from the date of this publication comments relating to the Consent Decree. Comments should be addressed to the Assistant Attorney General, Environment and Natural Resources Division, P.O. Box 7611, U.S. Department of Justice, Washington, DC 20044-7611, and should refer to United States v. U.S. Sugar, et al., 05-61271-CV-Huck/Simonton (S.D. Fl.), DOJ Ref. 90-11-2-1069.

The Consent Decree may be examined at the Office of the United States Attorney, 500 East Broward Blvd., 7th Floor, Fort Lauderdale, FL 33394 and at EPA Region 4, Atlanta Federal Center, 61 Forsyth Street, SW., Atlanta, GA 30303. During the public comment period, the consent decree may be examined on the Department of Justice Web site at http://www.usdoj.gov/enrd/open.html. A copy of the consent decree may also be obtained by mail from the Consent Decree Library, PO Box 7611, U.S. Department of Justice, Washington, DC 20044-7611, or by faxing or e-mailing a request to Tonia Fleetwood (tonia.fleetwood@usdoj.gov), fax no. (202) 514-0097, phone confirmation number (202) 514-1547. In requesting a copy, please refer to United States v. U.S. Sugar, et al., 05-61271-CV-Huck/Simonton (S.D. Fl.), DOJ Ref. 90-11-2-1069, and enclose a check in the amount of $78.25 (25 cents per page reproduction cost) payable to the U.S. Treasury. To receive the Consent Decree without Appendix A (Record of Decision), pay $40.75.

Maureen Katz,
Assistant Section Chief, Environmental Enforcement Section, Environment & Natural Resources Division.

[FR Doc. 05-15865 Filed 8-10-05; 8:45 am]

BILLING CODE 4410-IS-M